DEPARTMENT OF AGRICULTURE

Office of the Secretary

Request for Nominations of Members for the National Agricultural Research, Extension, Education, and Economics Advisory Board, Specialty Crop Committee, Citrus Disease Subcommittee, and National Genetic Resources Advisory Council

AGENCY: Research, Education, and Economics, USDA.

ACTION: Solicitation for membership.

SUMMARY: In accordance with the Federal Advisory Committee Act, the U.S. Department of Agriculture (USDA) announces the opening of the solicitation for nominations to fill vacancies on the National Agricultural Research, Extension, Education, and Economics (NAREEE) Advisory Board and its subcommittees. There are fourteen vacancies on the NAREEE Advisory Board; four vacancies on the National Genetic Resources Advisory Council; three vacancies on the Specialty Crop Committee; and three vacancies on the Citrus Disease Subcommittee.

DATES: USDA will consider nominations received by July 31, 2020.

ADDRESSES: To ensure receipt of nomination packages, please email the nominee's name, resume or CV, completed and signed Form AD-755, and any letters of support to nareeeab@ars.usda.gov.

FOR FURTHER INFORMATION CONTACT: Michele Esch, Director, National Agricultural Research, Extension, Education, and Economics Advisory Board, 1400 Independence Avenue SW, Room 332A, The Whitten Building, Washington, DC 20250-2255; telephone: 202-720-3684 or email: nareeeab@ars.usda.gov. Committee website: https://nareeeab.ree.usda.gov/.

SUPPLEMENTARY INFORMATION:

Instructions for Nominations: Nominations are solicited from organizations, associations, societies, councils, federations, groups, and companies that represent a wide variety of food and agricultural interests throughout the country.

Nominees may be considered for the NAREEE Advisory Board and or a subcommittee and may be considered for more than one category and/or subcommittee dependent on the nominee's qualifications. Each nominee must submit a signed form AD-755, “Advisory Committee Membership Background Information,” which can be obtained from the contact person above or from: https://www.ocio.usda.gov/sites/default/files/docs/2012/AD-755%20-%20Approved% 20Master%202015.pdf). A resume or CV should also be submitted. Letters of nomination or support are encouraged. Nomination letters must indicate whether they are applying for a NAREEE Board position or a subcommittee AND include the category(s) for which the nominee is applying.

Nominations are open to all individuals without regard to race, color, religion, sex, national origin, age, mental or physical handicap, marital status, or sexual orientation. To ensure the recommendation of the Advisory Board takes into account the needs of the diverse groups served by the USDA, membership shall include, to the extent practicable, individuals with demonstrated ability to represent the needs of all racial and ethnic groups, women and men, and persons with disabilities.

Please note, individuals may not serve on more than one USDA Federal Advisory Committee. Individuals, who are lobbyists, appointed to committees to exercise their own individual best judgment on behalf of the government (e.g. as Special Government Employees) are ineligible to serve.

All nominees will be carefully reviewed for their expertise, leadership, and relevance. Appointed members will serve two-, or three-year terms in order to properly stagger term rotation. All nominees will be vetted before selection. Appointments to the NAREEE Advisory Board and its subcommittees will be made by the Secretary of Agriculture.

National Agricultural Research, Extension, Education and Economics Advisory Board

The NAREEE Advisory Board was established in 1996 via Section 1408 of the National Agricultural Research, Extension, and Teaching Policy Act of 1977 (7 U.S.C. 3123) to provide advice to the Secretary of Agriculture and land-grant colleges and universities on top priorities and policies for food and agricultural research, education, extension, and economics. Section 1408 of the National Agricultural Research, Extension, and Teaching Policy Act of 1977 was amended by the Farm Security and Rural Investment Act of 2002 to reduce the number of members on the NAREEE Advisory Board to 25 members and required the Board to also provide advice to the Committee on Agriculture of the House of Representatives; the Committee on Agriculture, Nutrition, and Forestry of the Senate; the Subcommittee on Agriculture, Rural Development, Food and Drug Administration and Related Agencies of the Committee on Appropriations of the House of Representatives; and the Subcommittee on Agriculture, Rural Development and Related Agencies of the Committee on Appropriations of the Senate. Subsequently, Section 1408 of the Agricultural Improvement Act of 2018 further reduced the number of members from 25 to 15 and changed the categories of membership for the advisory board. Each member of the Board represents a specific category including: National Farm or Producer Organizations; Academic or Research Societies; Agricultural Research, Extension and Education; or Industry, Consumer or Rural Interests.

Nominations are being sought for the following categories:

• Three members to represent National Farm or Produce Organizations, which may include members representing:

○ farm cooperatives;

○ food animal commodity producers;

○ plant commodity producers; or

○ aquaculture producers.

• Two members to represent Academic or Research Societies, which may include members representing:

○ National food animal science society;

○ national crop, soil, agronomy, horticulture, plant pathology, or weed science society;

○ national food science organization;

○ national human health association; or

○ national nutritional science society.

• four members to represent Agricultural Research, Extension and Education, which shall include members representing:

○ 1 member representing the 1862 land-grant colleges and universities.

○ 1 member representing the 1890 land-grant colleges and universities, including Tuskegee University.

○ 1 member representing the 1994 Equity in Education land-grant institution

○ 1 member representing American colleges of veterinary medicine

• five members to represent Industry, Consumer or Rural Interests, which may include members representing:

○ Transportation of food and agricultural products to domestic and foreign markets;

○ food retailing and marketing interests;

○ food and fiber processors;

○ rural economic development interests;

○ a national consumer interest group;

○ a national forestry group;

○ a national conservation or natural resource group;

○ a national social science association;

○ private sector organizations involved in international development; or

○ a national association of agricultural economists.

All nominees will be carefully reviewed for their expertise, leadership, and relevance to a category.

National Genetic Resources Advisory Council

The National Genetic Resources Advisory Council was originally established in March, 1992 via section 1634 (7 U.S.C. 5843) of the Food, Agriculture, Conservation and Trade Act of 1990 to formulate recommendations on actions and policies for the collection, maintenance, and utilization of genetic resources; to make recommendations for coordination of genetic resources plans of several domestic and international organizations; and to advise the Secretary of Agriculture and the National Genetic Resources Program, part of the Agricultural Research Service, of new and innovative approaches to genetic resources conservation. It was subsequently re-established in 2012 as a permanent subcommittee of the NAREEE Advisory Board. The Agricultural Improvement Act of 2018 further expanded the responsibilities of the Council to include recommendations on cultivar development and increased the number of members from 9 to 13. The membership is required to have 6 members from scientific disciplines relevant to the National Genetic Resources Program, including agricultural sciences, economics and policy, environmental sciences, natural resource sciences, health sciences, and nutritional sciences; 3 members from the general public and shall include leaders in fields of public policy, community development, trade, international development, law, or management; and 4 members with expertise in cultivar development and animal breed development. In addition, 4 of the members of the NGRAC shall be appointed from among individuals representing: 1862 land-grant colleges and universities; 1890 land-grant colleges and universities; Hispanic-serving institutions; or 1994 Equity in Education land-grant institutions.

Nominations are being sought for the following categories:

• Three members to represent the scientific disciplines, and

• one member to represent the general public.

All nominees will be carefully reviewed for their expertise, leadership, and relevance to a category.

Specialty Crop Committee

The Specialty Crop Committee was created as a subcommittee of the NAREEE Advisory Board in accordance with the Specialty Crops Competitiveness Act of 2004 under Title III, Section 303 of Public Law 108-465. The committee was formulated to study the scope and effectiveness of research, extension, and economics programs affecting the specialty crop industry. The legislation defines “specialty crops” as fruits, vegetables, tree nuts, dried fruits and nursery crops (including floriculture). The Agricultural Act of 2014 further expanded the scope of the Specialty Crop Committee to provide advice to the Secretary of Agriculture on the relevancy review process of the Specialty Crop Research Initiative, a grant program of the National Institute of Food and Agriculture.

Members should represent the breadth of the specialty crop industry. Three members of the Specialty Crop Committee are also members of the NAREEE Advisory Board, and six members represent various disciplines of the specialty crop industry. The terms of three members expired on September 30, 2020. The Specialty Crop Committee is soliciting nominations to fill three vacant positions to represent the specialty crop industry. All nominees will be carefully reviewed for their expertise, leadership, and relevance to a category.

Citrus Disease Subcommittee: The Citrus Disease Subcommittee was established by the Agricultural Act of 2014 (Sec. 7103) to advise the Secretary of Agriculture on citrus research, extension, and development needs, engage in regular consultation and collaboration with USDA and other organizations involved in citrus, and provide recommendations for research and extension activities related to citrus disease. The Citrus Disease Subcommittee will also advise the Department on the research and extension agenda of the Emergency Citrus Disease Research and Extension Program, a grant program of the National Institute of Food and Agriculture.

Section 1408(a)(2) of the Agricultural Improvement Act of 2018 amended the membership of the Citrus Disease Subcommittee to increase the number of members from 9 members to 11. Members must be a producer of citrus with representation from the following States: five members from Arizona or California, five members from Florida, and one member from Texas.

The Citrus Disease Subcommittee is soliciting nominations to fill three vacant positions for membership:

• Two positions to represent Florida, and

• one position to represent California or Arizona.

All nominees will be carefully reviewed for their expertise, leadership, and relevance to a category.

Done at Washington, DC, this day of April 13, 2020.
Cikena Reid,
Committee Management Officer, U.S. Department of Agriculture.

[FR Doc. 2020-09931 Filed 5-7-20; 8:45 am]

BILLING CODE 3410-03-P